FEDERAL COMMUNICATIONS COMMISSION

[Report No. 4193]

Petition for Reconsideration of Action in Rulemaking Proceeding

June 7, 2010.

Petition for Reconsideration has been filed in the Commission's Rulemaking Proceeding listed in this Public Notice and published pursuant to 47 CFR 1.429(e). The full text of this document is available on-line at http://fjallfoss.fcc.gov/ecfs/. It is also available for viewing and copying in Room CY-B402, 445 12th Street, SW., Washington, DC or may be purchased from the Commission's copy contractor, Best Copy and Printing, Inc. (BCPI) (1-800-378-3160). Oppositions to this petition must be filed by July 28, 2010. See Section 1.429(f) of the Commission's Rules (47 CFR 1.429(f)). Replies to oppositions must be filed within 10 days after the time for filing oppositions has expired. See Section 1.429(g) of the Commission's Rules (47 CFR 1.429(g)).

Subject: In the Matter of Amendment of Section 73.622(i), Final DTV Table of Allotments, Television Broadcast Stations (Seaford, Delaware) (MB Docket No. 09-230).

Number of Petitions Filed: 1.

Marlene H. Dortch,
Secretary.

[FR Doc. 2010-17018 Filed 7-12-10; 8:45 am]

BILLING CODE 6712-01-P